UNIFIED CARRIER REGISTRATION PLAN

Sunshine Act Meetings

TIME AND DATE: August 13, 2024, 10:00 a.m. to 1:00 p.m., Eastern Time.

PLACE: This meeting will take place at the Hotel Indigo Traverse City 263 W Grandview Parkway, Traverse City, MI 49684. This meeting will also be accessible via conference call and via Zoom Meeting and Screenshare. Any interested person may call (i) 1-929-205-6099 (US Toll) or 1-669-900-6833 (US Toll), Meeting ID: 985 7826 0423, to listen and participate in this meeting. The website to participate via Zoom Meeting and Screenshare is https://kellen.zoom.us/meeting/register/tJwocOGqqDsuGNfJ89k1JERZ2RtIlmmmXvIO.

STATUS: This meeting will be open to the public.

MATTERS TO BE CONSIDERED: The Unified Carrier Registration Plan Dispute Resolution Subcommittee (the “Subcommittee”) will conduct a meeting to continue its work in developing and implementing the Unified Carrier Registration Plan and Agreement. The subject matter of this meeting will include:

Proposed Agenda

I. Call to Order—UCR Dispute Resolution Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Dispute Resolution Subcommittee Chair

For Discussion and Possible Subcommittee Action

The Subcommittee Agenda will be reviewed, and the Subcommittee will consider adoption.

Ground Rules

➢ Subcommittee action only to be taken in designated areas on agenda

IV. Review and Approval of Subcommittee Minutes From the January 25, 2024 Meeting—UCR Dispute Resolution Subcommittee Chair

For Discussion and Possible Subcommittee Action

Draft minutes from the January 25, 2024 Subcommittee meeting will be reviewed. The Subcommittee will consider action to approve.

V. Discussion of the Dispute Resolution Procedure—UCR Dispute Resolution Subcommittee Chair and UCR Plan Legal Counsel

The UCR Dispute Resolution Subcommittee Chair and UCR Plan Legal Counsel will lead a discussion and review of the current Dispute Resolution Procedure. The document sets forth the current UCR procedure for processing and handling eligible disputes. The document was last amended in January 2024.

VI. Other Business—UCR Dispute Resolution Subcommittee Chair

The Subcommittee Chair will call for any other items Subcommittee members would like to discuss.

VII. Adjournment—UCR Dispute Resolution Subcommittee Chair

The Subcommittee Chair will adjourn the meeting.

The agenda will be available no later than 5:00 p.m. Eastern time, August 5, 2024, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-17758 Filed 8-6-24; 4:15 pm]

BILLING CODE 4910-YL-P